DEPARTMENT OF LABOR

Employment and Training Administration

[TA-W-81,811]

Esselte Corporation, Including On-Site Leased Workers From Onin Staffing, Resource Manufacturing, and Express Employment Professionals, Morristown, TN; Amended Certification Regarding Eligibility To Apply for Worker Adjustment Assistance

In accordance with Section 223 of the Trade Act of 1974, as amended (“Act”), 19 U.S.C. 2273, the Department of Labor issued a Certification of Eligibility to Apply for Worker Adjustment Assistance on July 27, 2012, applicable to workers and former workers of Esselte Corporation, including on-site leased workers from Onin Staffing, Morristown, Tennessee. The Department's Notice of determination was published in the Federal Register on August 9, 2012 (77 FR 47673). Workers were engaged in employment related to the production of envelope and legal pads.

At the request of a duly authorized representative, the Department reviewed the certification for workers of the subject firm.

The company reports that workers leased from Resource Manufacturing and Express Employment Professionals were employed on-site at the Morristown, Tennessee location of Esselte Corporation, Morristown, Tennessee. The Department has determined that these workers were sufficiently under the control of the subject firm to be considered leased workers.

Based on these findings, the Department is amending this certification to include workers leased from Resource Manufacturing and Express Employment Professionals working on-site at the Morristown, Tennessee location of Esselte Corporation.

The amended notice applicable to TA-W-81,811 is hereby issued as follows:

All workers of Esselte Corporation, including on-site leased workers from Onin Staffing, Resource Manufacturing, and Express Employment Professionals, Morristown, Tennessee, who became totally or partially separated from employment on or after July 17, 2011, through July 27, 2014, and all workers in the group threatened with total or partial separation from employment on the date of certification through two years from the date of certification, are eligible to apply for adjustment assistance under Chapter 2 of Title II of the Trade Act of 1974, as amended.

Signed in Washington, DCm this 28th day of December, 2012.
Del Min Amy Chen,
Certifying Officer, Office of Trade Adjustment Assistance.

[FR Doc. 2013-00341 Filed 1-9-13; 8:45 am]

BILLING CODE 4510-FN-P